DEPARTMENT OF HOMELAND SECURITY

Coast Guard

33 CFR Part 110

[Docket No. USCG-2008-0027]

RIN 1625-AA01

Anchorage Regulations; Port of New York

AGENCY: Coast Guard, DHS.

ACTION: Proposed rule; withdrawal.

SUMMARY: The Coast Guard is withdrawing its proposed rule concerning the revision of boundaries of three anchorage grounds adjacent to Ellis and Liberty Islands in Upper New York Bay. The proposed rule is being withdrawn due to the decision not to expand two security zones around Ellis and Liberty Islands. The decision not to expand the security zones removes the need to revise the anchorage ground boundaries.

DATES: The proposed rule published at 73 FR 27775, May 14, 2008, is withdrawn, effective February 18, 2009.

ADDRESSES: The docket for this withdrawn rulemaking is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, selecting the Advanced Docket Search option on the right side of the screen, inserting USCG-2008-0027 in the Docket ID box, pressing Enter, and then clicking on the item in the Docket ID column.

FOR FURTHER INFORMATION CONTACT: If you have questions about this notice, call Mr. John Mauro at (617) 223-8355. If you have questions on viewing material in the docket, call Renee V. Wright, Program Manager, Docket Operations, telephone 202-366-9826.

SUPPLEMENTARY INFORMATION:

Background

On May 14, 2008, we published in the Federal Register a notice of proposed rulemaking that proposed to revise the boundaries of three anchorage grounds adjacent to Ellis and Liberty Islands in Upper New York Bay (73 FR 27775). This notice of proposed rulemaking was entitled “Anchorage Regulations; Port of New York” and is available at docket number USCG-2008-0027. The reason we proposed to revise the boundaries of those three anchorages was to coordinate with a separate rulemaking proposing the expansion of two security zones adjacent to Ellis and Liberty Islands. The notice of proposed rulemaking proposing expansion of the security zones was published in the Federal Register on May 6, 2008, (73 FR 24889), and is available at docket number USCG-2007-0074.

Due to comments received regarding the proposed expansion of two security zones, we will not expand these two security zones; the decision not to expand them was recently published as part of the final rule concerning “Safety and Security Zones: New York Marine Inspection Zone and Captain of the Port Zone,” docket number USCG-2007-0074. This decision removes the need to revise the size of the three adjacent anchorage grounds.

Withdrawal

Because we will not expand the security zones discussed above, there is no need to revise the boundaries of the three anchorage grounds adjacent to Ellis and Liberty Islands in Upper New York Bay. Therefore, we are withdrawing our proposal to revise those anchorage grounds, which was published on May 14, 2008, in the Federal Register (73 FR 27775).

Authority

We issue this notice of withdrawal under the authority of 33 U.S.C. 471, 1221 through 1236, 2030, 2035 and 2071; 33 CFR 1.05-1; and Department of Homeland Security Delegation No. 0170.1.

Dated: November 13, 2008.
Dale G. Gabel,
Rear Admiral, U.S. Coast Guard, Commander, First Coast Guard District.

[FR Doc. E9-3381 Filed 2-17-09; 8:45 am]

BILLING CODE 4910-15-P